SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA),which requires agencies to submit proposed reporting and recordkeeping requirements to OMB for review and approval, and to publish a notice in the Federal Register notifying the public that the agency has made such a submission. This notice also allows an additional 30 days for public comments.

DATES: Submit comments on or before March 5, 2018.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: For financial assistance programs authorized by section 7(a) and (b) of the Small Business Act and Title V of the Small Business Investment Act of 1958, SBA regulations require any loan guarantor and individual owners of the small business applicant to submit a personal financial statement to provide information on their assets and liabilities. See, 13 CFR 120.191 and 13 CFR 123.6. The information is necessary for the Agency, the participating lender or CDC to make informed decisions concerning the applicant's repayment abilities or creditworthiness.

For the 8(a) Business Development (BD), Small Disadvantaged Business (SDB), and Women-Owned Small Business (WOSB) programs the information is necessary for SBA to determine if the applicant or participant meets the economic disadvantage requirements to participate in these programs. SBA regulations at 13 CFR 124.104, 124.112, 124.1002, and 13 CFR 127.203 require, among other things, that applicants and participants submit financial information to facilitate this determination.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

(1) Title: Personal Financial Statement.

Description of Respondents: Applicants and/or Participants in SBA's 7(a) loan program, 504 loan program, and disaster loan program, and 8(a) Business Development program, and the Women-Owned Small Business program.

Form Numbers: SBA Forms 413(7a), 413(D), 413(8(a)) and 413(WOSB).

Estimated Annual Respondents: 44,588.

Estimated Annual Responses: 44,588.

Estimated Annual Hour Burden: 66,882.

Curtis B. Rich,
Management Analyst.

[FR Doc. 2018-01995 Filed 1-31-18; 8:45 am]

BILLING CODE 8025-01-P